ENVIRONMENTAL PROTECTION AGENCY

40 CFR Part 271

[FRL-7025-1]

Wyoming: Final Authorization of State Hazardous Waste Management Program Revision

AGENCY: Environmental Protection Agency (EPA).

ACTION: Final rule.

SUMMARY: On February 25, 1999, EPA Region VIII published an Immediate Final Rule at 64 FR 09278 authorizing changes to Wyoming's hazardous waste program under the Resource Conservation and Recovery Act (RCRA). At that time, we determined that the changes to Wyoming's hazardous waste program satisfied all requirements for final authorization and authorized the changes through an Immediate Final Rule. The Immediate Final Rule was to be effective on April 26, 1999 unless significant written comments opposing the authorization were received during the comment period. At the same time, in the event we received written comments, we also published a Proposed Rule at 64 FR 09295 to authorize these same changes to the Wyoming hazardous waste program.

As a result of comments received on the Immediate Final Rule and the passage of Wyoming Senate File 147 (SF 147), we withdrew the Immediate Final Rule on April 23, 1999 at 64 FR 19925, reopened the Public Comment Period until July 22, 1999 at 64 FR 19968, and went forward with the Proposed Rule. In addition, we held Public Hearings on June 29 and 30, 1999. By today's action, we are issuing a Final Rule authorizing the changes to the Wyoming hazardous waste program as listed in the Immediate Final Rule at 64 FR 09278 and responding below to all of the comments received.

DATES: This authorization will be effective on August 6, 2001.

ADDRESSES: You can view and copy Wyoming's application at the following addresses: EPA Region VIII, from 8:00 AM to 4:00 PM, 999 18th Street, Suite 500, Denver, Colorado 80202-2466, contact: Kris Shurr, phone number: (303) 312-6139; or Wyoming Department of Environmental Quality (WDEQ), from 8:00 AM to 5:00 PM, 122 W. 25th Street, Cheyenne, Wyoming.

FOR FURTHER INFORMATION CONTACT: Kris Shurr, EPA Region VIII, 999 18th Street, Suite 300, Denver, CO 80202-2466, Phone (303) 312-6139.

SUPPLEMENTARY INFORMATION: The reader should also refer to the Proposed Rule at 64 FR 09295 and the Immediate Final Rule at 64 FR 09278, both published on February 25, 1999.

We received written comments from twenty-eight parties during the comment period; six recommended we grant authorization; ten requested that we withhold approval of Wyoming's authorization revision until SF 147 could be revised; and four requested that we withdraw the State's RCRA primacy.

The majority of commenters expressed concerns over a potential loss of environmental protections due to the passage of SF 147. We agreed with the concerns regarding the ability of Wyoming's Department of Environmental Quality (WDEQ) to manage an adequate and equivalent RCRA authorized program in light of SF 147 and decided to withhold approval of Wyoming's program revisions until SF 147 could be revised.

As noted above, we withdrew the Immediate Final Rule on April 23, 1999. On March 10, 2000, Wyoming passed Senate File 15 (SF 15) which repealed and substituted SF 147 with a significantly modified voluntary remediation program. More recently, Wyoming passed Senate File 130 (SF 130) which amended and clarified SF 15. Many of the concerns raised by commenters on the Proposed Rule and Immediate Final Rule have been addressed through these legislative changes.

Conclusion

As a result of the changes to Wyoming's law since the passage of SF 147, EPA Region VIII has determined that approval of the revisions to Wyoming's authorized RCRA program should proceed. Therefore, we are granting final approval of Wyoming's RCRA program revisions as listed in the Immediate Final Rule found at 64 FR 09278 on February 25, 1999.

The Office of Management and Budget (OMB) has exempted this action from the requirements of Executive Order 12866 (58 FR 51735, October 4, 1993) and, therefore, this action is not subject to review by OMB. This action authorizes State requirements for the purpose of RCRA 3006 and imposes no additional requirements beyond those imposed by State law. Accordingly, I certify that this action will not have a significant economic impact on a substantial number of small entities under the Regulatory Flexibility Act (5 U.S.C. 601 et seq.). Because this action authorizes pre-existing requirements under State law and does not impose any additional enforceable duty beyond that required by State law, it does not contain any unfunded mandate or significantly or uniquely affect small governments, as described in the Unfunded Mandates Reform Act of 1995 (Public Law 104-4). For the same reason, this action also does not significantly or uniquely affect the communities of tribal governments, as specified by Executive Order 13084 (63 FR 27655, May 10, 1998). This action will not have substantial direct effects on the States, on the relationship between the national government and the States, or on the distribution of power and responsibilities among the various levels of government, as specified in Executive Order 13132 (64 FR 43255, August 10, 1999), because it merely authorizes State requirements as part of the State RCRA hazardous waste program without altering the relationship or the distribution of power and responsibilities established by RCRA. This action also is not subject to Executive Order 13045 (62 FR 19885, April 23, 1997), because it is not economically significant and it does not make decisions based on environmental health or safety risks.

Under RCRA 3006(b), EPA grants a State's application for authorization as long as the State meets the criteria required by RCRA. It would thus be inconsistent with applicable law for EPA, when it reviews a State authorization application, to require the use of any particular voluntary consensus standard in place of another standard that otherwise satisfies the requirements of RCRA. Thus, the requirements of section 12(d) of the National Technology Transfer and Advancement Act of 1995 (15 U.S.C. 272 note) do not apply. As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Taking” issued under the executive order. This rule does not impose an information collection burden under the provisions of the Paperwork Reduction Act of 1995 (44 U.S.C. 3501 et seq.).

List of Subjects in 40 CFR Part 271

Environmental protection, Administrative practice and procedure, Confidential business information, Hazardous waste, Hazardous waste transportation, Indian country, Intergovernmental relations, Incorporation-by-reference, Penalties, Reporting and recordkeeping requirements.

Authority: This action is issued under the authority of sections 2002(a), 3006 and 7004(b) of the Solid Waste Disposal Act as amended 42 U.S.C. 6912(a), 6926, 6974(b).

Dated: July 12, 2001.
Patricia D. Hull,
Acting Regional Administrator, Region 8.

[FR Doc. 01-19564 Filed 8-3-01; 8:45 am]

BILLING CODE 6560-50-P